DEPARTMENT OF HEALTH AND HUMAN SERVICES

Office of the Secretary

Statement of Organization, Functions, and Delegations of Authority; Office of the National Coordinator for Health Information Technology

Part A, Office of the Secretary, Statement of Organization, Functions, and Delegations of Authority for the Department of Health and Human Services, Chapter AR, Office of the National Coordinator for Health Information Technology (ONC), as last amended at 79 FR 31941 (June 3, 2014), 77 FR 29349-50 (May 17, 2012), 76 FR 65196 (Oct. 20, 2011), 76 FR 6795 (Feb. 8, 2011), 75 FR 49494 (Aug. 13, 2010), 74 FR 62785-86 (Dec. 1, 2009), 70 FR 48718-20 (Aug. 19, 2005) is amended as follows:

I. Under AR.10, Organization, delete all of components and replace with the following:

A. Immediate Office of the National Coordinator (ARA)

B. Office of Policy (ARI)

C. Office of Technology (ARC)

D. Office of the Chief Operating Officer (ARE)

II. Delete AR.20, Functions, in its entirety and replace with the following:

Section AR.20, Functions.

A. Immediate Office of the National Coordinator: The Immediate Office of the National Coordinator (IO/ONC) is headed by the National Coordinator, who provides leadership and executive and strategic direction for the ONC organization. The National Coordinator is responsible for carrying out ONC's mission and implementing the functions of ONC. The IO/ONC (1) ensures the interoperability of health information, as central and foundational to the core mission of HHS to enhance and protect the health and well-being of all Americans; (2) ensures that health information technology initiatives are coordinated across HHS programs; (3) ensures that health information technology policy and programs of HHS are coordinated with those of relevant executive branch agencies (including Federal commissions and advisory committees) with a goal of avoiding duplication of effort and of helping to ensure that each agency undertakes activities primarily within the areas of its greatest expertise and technical capability; (4) reviews Federal health information technology investments to ensure Federal health information programs are meeting the objectives of the strategic plan required under Executive Order 13335, to create a national interoperable health information technology infrastructure; (4) provides comments and advice regarding specific Federal health information technology programs; and (5) develops, maintains, and reports on measurable outcome goals for health information technology to assess progress within HHS and other executive branch agencies.

The Deputy National Coordinator, a part of the IO/ONC, works with and reports directly to the National Coordinator, and is responsible for supporting the National Coordinator in day-to-day operations and strategy for ONC, and for management of such ONC staff that report to the Deputy or as requested by the National Coordinator. The Deputy, in conjunction with the National Coordinator, provides executive oversight for the activities of ONC offices.

The Deputy National Coordinator for Operations works with, and reports directly to, the National Coordinator and is responsible for day-to-day operations and strategy for ONC agency-wide support functions as well as providing executive oversight in conjunction with the National Coordinator.

The Chief Privacy Officer, a part of the IO/ONC, advises the National Coordinator on privacy, security, and data stewardship of electronic health information and coordinates with other Federal agencies, with State and regional efforts, and with foreign countries with regard to the privacy, security, and data stewardship of electronic individually identifiable health information.

B. Office of Policy: The Office of Policy is headed by an Executive Director. This office is responsible for: (1) Policy and rulemaking activities, including implementation of provisions included in the Health Information Technology for Economic and Clinical Health (HITECH) Act, the 21st Century Cures Act, and Executive Order 13335: Incentives for the Use of Health Information Technology and Establishing the Position of the National Health Information Technology Coordinator; (2) ONC's domestic policy initiatives; (3) coordination with executive branch agencies, Federal commissions, advisory committees, and external partners; (4) advanced analysis and evaluation of health information technology policies for ONC and the Department, including in the areas of interoperability, information blocking, care transformation, privacy and security, and quality improvement; and (5) operation of the Health Information Technology Advisory Committee established in the 21st Century Cures Act.

C. Office of Technology: The Office of Technology is headed by an Executive Director. This office is responsible for (1) executing provisions of law including those in Title XXX of the Public Health Service Act as well as those mandated under the HITECH Act and the 21st Century Cures Act; (2) providing technical leadership and coordination within the health IT community to identify, evaluate, and influence the development of standards, implementation guidance, and best practices for representing and exchanging electronic health information; (3) coordinating with Federal agencies and other public and private partners to implement and advance interoperability nationwide; (4) leading the development of electronic testing tools, resources, and data to achieve interoperability, enhanced usability, and aid in the optimization of health IT; (5) administering the ONC Health IT Certification Program, including the Certified Health IT Product List (CHPL); and (6) leading ONC's technical interoperability interests and investments to advance the development of innovative solutions for interoperability.

D. Office of the Chief Operating Officer: The Office of the Chief Operating Officer is headed by the Deputy National Coordinator for Operations/Chief Operating Officer and fulfills the administrative (i.e., executive secretariat) reporting, infrastructure, and budget support needs of the office. The Office of the Chief Operating Officer is responsible for:

(1) Managing enterprise risk and formulating solutions to ensure ONC has the resources to achieve its mission and goals; (2) ensuring fiscal integrity and adherence to Federal laws and regulations; (3) providing centralized, agency-wide strategy and services including: Budget and financial management; full lifecycle grants management; procurement management; human capital; information technology; facilities management; ethics; and records management.

III. Delegation of Authority.

Pending further delegation, directives or orders by the Secretary or by the National Coordinator for Health Information Technology, all delegations and redelegations of authority made to officials and employees of affected organizational components will continue in them or their successors pending further redelegations, provided they are consistent with this reorganization.

Alex M. Azar II,
Secretary of Health and Human Services.

BILLING CODE 4150-24-P

[FR Doc. 2018-09361 Filed 4-30-18; 4:15 pm]

BILLING CODE 4150-24-C